DEPARTMENT OF HEALTH AND HUMAN SERVICES

Administration for Children and Families

Grants and Cooperative Agreements: Community Services Block Grant Community Economic Development Discretionary Grant Program—Administration and Management Expertise Priority Area

AGENCY: Administration for Children and Families, Office of Community Services.

Funding Opportunity Title: The Community Services Block Grant Community Economic Development Discretionary Grant Program—Administration and Management Expertise Priority Area.

Announcement Type: Initial.

Funding Opportunity Number: HHS-2004-ACF-OCS-EC-0017.

CFDA Number: 93.570.

Due Date for Applications: The due date for receipt of applications is June 29, 2004.

I. Funding Opportunity Description

The Community Services Block Grant (CSBG) Act of 1981, as amended, (section 680 of the Community Opportunities, Accountability, and Training and Educational Services Act of 1998), authorizes the Secretary of the U. S. Department of Health and Human Services to make grants to provide technical and financial assistance for economic development activities designed to address the economic needs of low-income individuals and families by creating employment and business development opportunities. Pursuant to this Announcement, OCS will make an award under Priority Area 6 Administration and Management Expertise, to a Community Development Corporation to establish a pool of experienced CDC administrators and managers to provide assistance to OCS grantees. An applicant in this Priority Area must document its experience and capability in several of the following areas: (1) Business development; (2) Micro-entrepreneurship development; (3) Organizational and staff development; (4) Board training; (5) Business management, including strategic planning and fiscal management; (6) Finance, including business packaging, accounting and financial services; (7) Commercial development, including real estate development, land assembling, deal-making; (8) Regulatory compliance, including zoning and obtaining permits; (9) Incubator development; (10) Tax credits and bond financing; (11) Marketing and (12) Community Development.

Definitions of Terms

The following definitions apply:

Budget Period—The time interval into which a grant period is divided for budgetary and funding purposes.

Business Start-up Period—Time interval within which the grantee completes preliminary project tasks. These tasks include but are not limited to assembling key staff, executing contracts, administering lease out or build-out of space for occupancy, purchasing plant and equipment and other similar activities. The Business Start-Up Period typically takes three to six months from the time OCS awards the grant or cooperative agreement. Cash contributions—The recipient's cash outlay, including the outlay of money contributed to the recipient by the third parties.

Community Development Corporation (CDC)—A private non-profit corporation governed by a board of directors consisting of residents of the community and business and civic leaders, which has as a principal purpose planning, developing, or managing low-income housing or community development activities.

Community Economic Development (CED)—A process by which a community uses resources to attract capital and increase physical, commercial, and business development, as well as job opportunities for its residents.

Construction projects—Projects that involve land improvements and development or major renovation of (new or existing) facilities and buildings, fixtures, and permanent attachments.

Cooperative Agreement—An award instrument of financial assistance when substantial involvement is anticipated between the awarding office, (the Federal government) and the recipient during performance of the contemplated project.

Developmental/Research Phase—The time interval during the Project Period that precedes the Operational Phase. Grantees accomplish preliminary activities during this phase including establishing third party agreements, mobilizing monetary funds and other resources, assembling, rezoning, and leasing of properties, conducting architectural and engineering studies, constructing facilities, etc.

Displaced worker—An individual in the labor market who has been unemployed for six months or longer.

Distressed community—A geographic urban neighborhood or rural community of high unemployment and pervasive poverty.

Employment education and training program—A program that provides education and/or training to welfare recipients, at-risk youth, public housing tenants, displaced workers, homeless and low-income individuals and that has demonstrated organizational experience in education and training for these populations.

Empowerment Zone and Enterprise Community Project Areas (EZ/EC)—Urban neighborhoods and rural areas designated as such by the Secretaries of Housing and Urban Development and Agriculture.

Equity investment—The provision of capital to a business entity for some specified purpose in return for a portion of ownership using a third party agreement as the contractual instrument.

Faith-Based Community Development Corporation—A community development corporation that has a religious character.

Hypothesis—An assumption made in order to test a theory. It should assert a cause-and-effect relationship between a program intervention and its expected result. Both the intervention and its result must be measured in order to confirm the hypothesis. The following is a hypothesis: “Eighty hours of classroom training will be sufficient for participants to prepare a successful loan application.” In this example, data would be obtained on the number of hours of training actually received by participants (the intervention), and the quality of loan applications (the result), to determine the validity of the hypothesis (that eighty hours of training is sufficient to produce the result).

Intervention—Any planned activity within a project that is intended to produce changes in the target population and/or the environment and that can be formally evaluated. For example, assistance in the preparation of a business plan is an intervention.

Job creation—New jobs, i.e., jobs not in existence prior to the start of the project, that result from new business startups, business expansion, development of new services industries, and/or other newly-undertaken physical or commercial activities.

Job placement—Placing a person in an existing vacant job of a business, service, or commercial activity not related to new development or expansion activity.

Letter of commitment—A signed letter or agreement from a third party to the applicant that pledges financial or other support for the grant activities contingent only on OCS accepting the applicant's project proposal.

Loan—Money lent to a borrower under a binding pledge for a given purpose to be repaid, usually at a stated rate of interest and within a specified period.

Non-profit Organization—An organization, including faith-based and community-based, that provides proof of non-profit status described in the “Additional Information on Eligibility” section of this announcement.

Operational Phase—The time interval during the Project Period when businesses, commercial development or other activities are in operation, and employment, business development assistance, and so forth are provided.

Outcome evaluation—An assessment of project results as measured by collected data that define the net effects of the interventions applied in the project. An outcome evaluation will produce and interpret findings related to whether the interventions produced desirable changes and their potential for being replicated. It should answer the question: Did this program work?

Poverty Income Guidelines—Guidelines published annually by the U.S. Department of Health and Human Services that establish the level of poverty defined as low-income for individuals and their families. The guideline information is posted on the Internet at the following address: http://www.hhs.aspe.gov/poverty/.

Process evaluation—The ongoing examination of the implementation of a program. It focuses on the effectiveness and efficiency of the program's activities and interventions (for example, methods of recruiting participants, quality of training activities, or usefulness of follow-up procedures). It should answer the questions such as: Who is receiving what services and are the services being delivered as planned? It is also known as formative evaluation, because it gathers information that can be used as a management tool to improve the way a program operates while the program is in progress. It should also identify problems that occurred, how the problems were resolved and what recommendations are needed for future implementation.

Pre-Development Phase—The time interval during the Project Period when an applicant or grantee plans a project, conducts feasibility studies, prepares a business or work plan and mobilizes non-OCS funding.

Program income—Gross income earned by the grant recipient that is directly generated by an activity supported with grant funds.

Project Period—The total time for which a project is approved for OCS support, including any approved extensions.

Revolving loan fund—A capital fund established to make loans whereby repayments are re-lent to other borrowers.

Self-employment—The employment status of an individual who engages in self-directed economic activities.

Self-sufficiency—The economic status of a person who does not require public assistance to provide for his/her needs and that of his/her immediate family.

Sub-award—An award of financial assistance in the form of money, or property, made under an award by a recipient to an eligible sub-recipient or by a sub-recipient to a lower tier sub-recipient. The term includes financial assistance when provided by any legal agreement, even if the agreement is called a contract, but does not include procurement of goods and services nor does it include any form of assistance which is excluded from the definition of “award” in 45 CFR part 74. (Note: Equity investments and loan transactions are not sub-awards.)

Technical assistance—A problem-solving event generally using the services of a specialist. Such services may be provided on-site, by telephone or by other communications. These services address specific problems and are intended to assist with immediate resolution of a given problem or set of problems.

Temporary Assistance for Needy Families (TANF)—The Federal block grant program authorized in Title I of the Personal Responsibility and Work Opportunity Reconciliation Act of 1996 (Pub. L. 104-193). The TANF program transformed “welfare” into a system that requires work in exchange for time-limited assistance.

Third party—Any individual, organization or business entity that is not the direct recipient of grant funds.

Third party agreement—A written agreement entered into by the grantee and an organization, individual or business entity (including a wholly owned subsidiary), by which the grantee makes an equity investment or a loan in support of grant purposes.

Third party in-kind contributions—Non-cash contributions provided by non-Federal third parties. These contributions may be in the form of real property, equipment, supplies and other expendable property, and the value of goods and services directly benefiting and especially identifiable to the project or program.

Priority Areas

Community Economic Development Program

Priority Area—Administration and Management Expertise

The applicant must include resumes of key expected to serve as project staff and of staff and contractors to be used in providing services to CDCs or undertaking nationwide projects. OCS will approve requests for assistance. Contacts may occur on-site, by telephone, or through other methods of communication. All costs incurred in connection with participation in such activities will be paid for with the grant funds awarded under this priority area.

Project Goals

Providing administration and management expertise to Community Economic Development (CED) projects furthers HHS goals of strengthening American families and promoting their self-sufficiency, and OCS goals of promoting healthy families in healthy communities.

Project Scope

The project scope for this priority area is to bring administration and management expertise to CED grantees in need of technical assistance on their specific projects.

II. Award Information

Funding Instrument Type: Cooperative Agreement.

Description of Federal Substantial Involvement with Cooperative Agreement: OCS will enter into a cooperative agreement with a Community Development Corporation to establish and field a pool of experienced CDC administrators and managers to provide assistance to grantees in need of such expertise. This expertise is not available to them through their awards. An applicant in this Priority Area must document its experience and capability in several of the following areas: (1) Business development; (2) Micro-entrepreneurship development; (3) Organizational and staff development; (4) Board training; (5) Business management, including strategic planning and fiscal management; (6) Finance, including business packaging, accounting and financial services; (7) Commercial development, including real estate development, land assembling, deal-making; (8) Regulatory compliance, including zoning and obtaining permits; (9) Incubator development; (10) Tax credits and bond financing; and (11) Marketing and (12) Community Development. In addition to providing assistance to individual CDCs, this grantee may also undertake projects of nationwide significance to the community economic development field.

A cooperative agreement is Federal assistance in which substantial Federal involvement is anticipated. Responsibility of Federal staff and the successful applicant are negotiated prior to an award. The duties and responsibilities of the applicant and the ACF/OCS in fulfilling the cooperative agreement will include the following:

Responsibilities of the Grantee

• To implement activities described in the approved project description.

• To develop and implement a work plan that will ensure that the delivery of administration and management expertise included in the approved application address the goals and objectives of the approved project in an efficient, effective and timely manner.

• To submit regular semi-annual Financial Status Reports (Standard Form 269) and progress reports that describes activities undertaken under the training and technical assistance project.

• To work cooperatively and collaboratively with ACF officials, other Federal agency officials conducting related activities, and other entities or organizations contracted by ACF to assist in carrying out the purposes of the Community Economic Development Program. Such cooperation and collaboration shall include, but not be limited to, providing requested financial and programmatic information, creating opportunities for interviews with agency officials and staff and allowing on-site observation of activities supported under the cooperative agreement.

• To notify the Office of Community Services Project Officer if revisions are needed to the cooperative agreement.

• To consult with the Office of Community Services Project Officer in implementing the activities on an ongoing and frequent basis.

• To comply with Community Economic Development Program regulations and all other applicable Federal statues and regulations in effect during the time the applicant is receiving funding.

• To notify the Federal Project Officer of any key personnel changes in writing.

• To ensure that the executive director and/or project director attend a two-day national OCS grantee training workshop in Washington, DC. The workshop will be scheduled shortly after the effective date of the grant award.

• To submit applications for continuation funding by July 1, 2002 if the applicant expects to receive a continuation cooperative agreement in FY 2005.

Responsibilities of ACF/OCS

• To provide consultation to the grantee with regard to the development of the work plan approaches to address problems that arise and identification of areas needing technical assistance.

• To consult with and to provide the grantee the data collection requirements of OCS and to keep the grantee informed of policy development as they affect the implementation of the project.

• To provide timely review, comment and decisions on significant project documents.

• To work with the grantee to address issues or problems with regard to the grantee's ability to carry out the full range of activities included in the approved application in the most efficient and effective manner.

• To promptly review written requests for approval of deviations from the project description or approved budget. Any changes which affect the terms and conditions of the grant award or revisions/amendments to the cooperative agreement or to the approved scope of activities will require prior approval by the ACF Grants Management Officer.

Anticipated Total Program Funding: $23.4 Million is expected to be available for the entire Community Economic Development Program. The estimated level of funding available for this Priority Area—Administration and Management Expertise (AM) is $350,000.

Anticipated Number of Awards: 1.

Anticipated Total Priority Area Funding: $350,000 per budget period.

Ceiling on Amount of Individual Awards: $350,000 per budget period.

An application that exceeds the upper value of the dollar range specified will be considered “non-responsive” and be returned to the applicant without further review.

Floor on Individual Award Amounts: None.

Project Periods for Award: This announcement is inviting applications for project periods up to 3 years. Awards, on a competitive basis, will be for a one-year budget period, although project periods may be for 3 years. Applications for continuation grants funded under these awards beyond the one-year budget period but within the 3 year project period will be entertained in subsequent years on a noncompetitive basis, subject to availability of funds, satisfactory progress of the grantee and a determination that continued funding would be in the best interest of the Government.

III. Eligibility Information

1. Eligible Applicants

Nonprofits having a 501 (c) (3) status with the IRS, other than institutions of higher education. Nonprofits that do not have a 501 (c) (3) status with the IRS, other than institutions of higher education. Faith-based and Community-based Organizations.

An applicant must be a private, non-profit Community Development Corporation (CDC). For purposes of this grant program, the CDC must be governed by a Board of Directors consisting of residents of the community and business and civic leaders. The CDC must have as a principal purpose planning, developing, or managing low-income housing or community development activities.

Additional Information on Eligibility

Applications that do not include proof of nonprofit status in the application will be disqualified.

Any non-profit organization submitting an application must submit proof of its non-profit status in its application at the time of submission. The non-profit agency can accomplish this by providing:

(a) A reference to the applicant organization's listing in the Internal Revenue Service's (IRS) most recent list of tax-exempt organizations described in the IRS Code;

(b) A copy of a currently valid IRS tax exemption certificate;

(c) A statement from a State taxing body, State attorney general, or other appropriate State official certifying that the applicant organization has a non-profit status and that none of the net earnings accrue to any private shareholders or individuals;

(d) A certified copy of the organization's certificate of incorporation or similar document that clearly establishes non-profit status;

(e) Or any of the items referenced above for a State or national parent organization and a statement signed by the parent organization that the applicant organization is a local non-profit affiliate.

Private, non-profit organizations are encouraged to submit with their applications the survey located under “Grant Related Documents and Forms” titled “Survey for Private, Non-Profit Grant Applicants” at www.acf.hhs.gov/programs/ofs/forms.htm.

Applications that do not include proof of CDC status in the application will be disqualified.

An applicant must be a private, non-profit Community Development Corporation. For purposes of this grant program, the CDC must be governed by a Board of Directors consisting of residents of the community and business and civic leaders. The CDC must have as a principal purpose, planning, developing, or managing low-income housing or community development projects.

Applicants must document their eligibility as a CDC for the purposes of this grant program. The application must include a list of governing board members along with their designation as a community resident, or business or civic leader. In addition, the application must include documentation that the organization has as a primary purpose planning, developing or managing low income housing or community development activities. This documentation may include incorporation documents or other official documents that identify the organization.

2. Cost Sharing or Matching: None

3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

IV. Application and Submission Information

1. Address To Request Application Package

Office of Community Services, Operations Center, 1815 North Fort Myer Drive, Suite 300, Arlington, Virginia 22209, e-mail: ocs@lcgnet.com, Telephone: 1-(800) 281-9519.

2. Content and Form of Application Submission

1. Application Content

Each application must include the following components:

1. Table of Contents

2. Abstract of the Proposed Project—one or two paragraphs, not to exceed 350 words, that describe the community in which the project will be implemented, beneficiaries to be served, type(s) of business(es) to be developed, type(s) of jobs to be created, projected cost-per-job, any land or building to be purchased or building constructed, resources leveraged and intended impact on the community.

3. Completed Standard Form 424—that has been signed by an official of the organization applying for the grant who has legal authority to obligate the organization. Under Box 11. indicate the Priority Area for which the application is written.

4. Standard Form 424A—Budget Information—Non-Construction Programs.

5. Standard Form 424B—Assurances—Non-Construction Programs.

6. Narrative Budget Justification—for each object class category required under Section B, Standard Form 424A.

Applicants are encouraged to use job titles and not specific names in developing the application budget. However, the specific salary rates or amounts for staff positions identified must be included in the application budget.

7. Project Narrative—A narrative that addresses issues described in the “Application Review Information” and the “Review and Selection Criteria” sections of this announcement.

2. Application Format

Submit application materials on white 8½ x 11 inch paper only. Do not use colored, oversized or folded materials.

Do not include organizational brochures or other promotional materials, slides, films, clips, etc.

The font size may be no smaller than 12 pitch and the margins must be at least one inch on all sides.

Number all application pages sequentially throughout the package, beginning with the abstract of the proposed project as page number one.

Present application materials either in loose-leaf notebooks or in folders with pages two-hole punched at the top center and fastened separately with a slide paper fastener.

Each application should include one signed original and two additional copies.

3. Page Limitation

The application package including sections for the Table of Contents, Project Abstract, Project and Budget Narratives, business and work plans must not exceed 60 pages. The page limitation does not include Standard Forms and Assurances, Certifications, Disclosures, appendices and any supplemental documents as required in this announcement.

An application that exceeds the page limitation specified will be considered “non-responsive” and will be returned to the applicant without further review.

4. Required Standard Forms

Applicants must submit completed and signed SF 424 Application for Federal Assistance, SF 424A Budget Information—Non-Construction Programs, and Standard Form 424B, Assurances: Non-Construction Programs.

Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification of their compliance with all Federal statutes relating to nondiscrimination. Applicants provide certification by signing the SF 424 and need not mail back the certification with the application.

Applicants must make the appropriate certification of their compliance with the requirements of the Pro-Children Act of 1994 as outlined in Certification Regarding Environmental Tobacco Smoke. Applicants provide certification by signing the SF 424 and need not mail back the certification with the application.

Applicants have the option of omitting from the application copies (not the original) specific salary rates or amounts for individuals specified in the application budget.

You may submit your application to us in either electronic or paper format.

To submit an application electronically, please use the www.Grants.gov apply site. If you use Grants.gov, you will be able to download a coy of the application package, complete it off-line, and then upload and submit the application via the Grants.gov site. You may not e-mail an electronic copy of a grant application to us.

Please note the following if you plan to submit your application electronically via Grants. Gov

• Electronic submission is voluntary

• When you enter the Grants. Gov site, you will find information about submitting an application electronically through the site, as well as the hours of operation. We strongly recommend that you do not wait until the application deadline date to begin the application process through Grants. Gov

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.

• We may request that you provide original signatures on forms at a later date.

• You may access the electronic application for this program on www.Grants.gov

• You must search for the downloadable application package by the CFDA number.

3. Submission Date and Times

The closing time and date for receipt of applications is 4:30 p.m. Eastern Standard Time (EST) on June 29, 2004. Mailed or hand carried applications received after 4:30 p.m. on the closing date will be classified as late and will not be reviewed.

Deadline: Mailed applications shall be considered as meeting an announced deadline if they are received on or before the deadline time and date at the U.S. Department of Health and Human Services, Administration for Children and Families, Office of Community Services Operations Center, 1815 Fort Myer Drive, Suite 300, Arlington, Virginia 22209 Attention: Operations Center. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the U.S. Department of Health and Human Services, Administration for Children and Families, Office of Community Services Operations Center, 1815 Fort Myer Drive, Suite 300, Arlington, Virginia 22209 Attention: Operations Center between Monday and Friday (excluding Federal holidays). This address must appear on the envelope/package containing the application with the note: “Attention: Operations Center”. Applicants are responsible for express/overnight mail services delivery.

Late applications: Applications which do not meet the criteria above are considered late applications and will not be considered. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms:

What to submit | Required content | Required form or format | When to submit
Table of Contents | As described above | Consistent with guidance in “Application Format” section of this announcement | By application due date.
Abstract of Proposed Project | Identifies project, the target population and the major elements of the proposed project | Consistent with guidance in “Application Format” section of this announcement | By application due date.
Completed Standard Form 424 | As described above and per required form | May be found on http://www.acf. hhs.gov/programs/ ofs/forms.htm | By application due date.
Completed Standard Form 424A | As described above and per required form | May be found on http://www.acf. hhs.gov/programs/ ofs/forms.htm | By application due date.
Complegted Standard Form 424B | As described above and per required form. | May be found on http://www.acf. hhs.gov/programs/ ofs/forms.htm | By application due date.
Narative Budget Justification | As described above | Consistent with guidance in “Application Format” section of this announcement | By application due date.
Project Narrative | A narrative that addresses issues described in the “Application Review Information” and the “Review and Selection Criteria” sections of this announcement | Consistent with guidance in “Application Format” section of this announcement | By application due date.
Certification regarding lobbying | As described above and per required form | May be found on http://www.acf. hhs.gov/programs/ ofs/forms.htm | By application due date.
Certification regarding environmental tobacco smoke | As described above and per required form | May be found on http://www.acf. hhs.gov/programs/ ofs/forms.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs. As of October 1, 2003, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Minnesota, Montana, Nebraska, New Jersey, New York, Ohio, Oklahoma, Oregon, Pennsylvania, South Dakota, Tennessee, Vermont, Virginia, Washington, Wyoming and Palau have elected to participate in the Executive Order process and have established Single Points of Contact (SPOCs). Applicants from these twenty-six jurisdictions need take no action.

Although the jurisdictions listed above no longer participate in the process, entities which have met the eligibility requirements of the program are still eligible to apply for a grant even if a State, Territory, SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Mail Stop 6C-462, Washington, DC 20447.

A list of the Single Points of Contact for each State and Territory is included with the application materials for this announcement.

Prohibited Activities

Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

OCS will not consider applications that propose to establish Small Business Investment Corporations or Minority Enterprise Small Business Investment Corporations.

OCS will not fund projects that would result in the relocation of a business from one geographic area to another resulting in job displacement.

Pre-award costs will not be covered by an award.

5. Other Submission Requirements

Private Nonprofit Community Development Corporation

Applicants must provide proof of nonprofit status and proof of status as a community development corporation as required by statute and as described under “Additional Information on Eligibility.”

Sufficiency of Financial Management System

Because CED funds are Federal, all grantees must be capable of meeting the requirements of 45 CFR part 74 concerning their financial management system. To assure that the applicant has such capability, applications must include a signed statement from a Certified or Licensed Public Accountant as to the sufficiency of the CDCs financial management system in accordance with 45 CFR part 74 and financial statements for the CDC for the prior three years. If such statements are not available because the CDC is a newly formed entity, the application must include a statement to this effect. The CDC grantee is responsible for ensuring that grant funds expended by it and the third party are expended in compliance with Federal regulations of 45 CFR, Part 74 and OMB Circular A-122.

Work Plan

An applicant must include a detailed work plan covering the activities to be undertaken and benchmarks that demonstrate progress toward stated goals and measurable objectives.

V. Application Review Information

1. Criteria

Paperwork Reduction Act of 1995 (Pub. L. 104-13)

Public reporting burden for this collection of information is estimated to average 25 hours per response, including the time for reviewing instructions, gathering and maintaining the data needed, and reviewing the collection of information. The project description is approved under Office of Management and Budget (OMB) Control Number 0970-0139.

An agency may not conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants are required to submit a full project description and shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, describe the population to be served by the program and the number of new jobs that will be targeted to the target population. Explain how the project will reach the targeted population, how it will benefit participants including how it will support individuals to become more economically self-sufficient.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. Account for all functions or activities identified in the application. Cite factors that might accelerate or decelerate the work and state your reasons for taking the proposed approach rather than others. Describe any unusual features of the project such as design or technical innovations, reductions in cost or time or extraordinary social and community involvement.

Provide quantitative monthly or quarterly projections of the accomplishments to be achieved for each function or activity in, for example such terms as the “number of people served.” When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criteria

Criteria for Review and Evaluation of Applications Submitted Under Priority

Area—Administration and Management

Evaluation Criterion I: Organizational Profiles (Maximum: 30 Points)

a. Organizational experience in program area (sub-rating: 0-20 points)

The application demonstrates that it has the management and administrative capacity, organizational structure and successful record of accomplishment relevant to serving other CDCs. (0-10 points)

b. The application describes in brief result form the experience and skills of the project director who is not only well qualified, but whose professional capabilities are relevant to the successful implementation of the project. (0-5 points)

c. The application describes in brief resume form the experience and skills of consultants who are not only well qualified, but whose professional capabilities are relevant to the successful implement of the project. (0-5 points)

Consultants to be available under this cooperative agreement demonstrate that they have expertise and capabilities in the following areas: (1) Business development. (2) Micro-entrepreneurship development. (3) Organizational and staff development. (4) Board training and development. (5) Business management, including strategic planning and fiscal management. (6) Finance, including business packaging, accounting and financial services. (7) Commercial development, including real estate development, land assembling, and deal-making. (8) Regulatory compliance, including zoning and obtaining permits. (9) Incubator development. (10) Tax credits and bond financing. (11) Marketing and (12) Community development. (0-10 points)

Evaluation Criterion II: Results or Benefits Expected (Maximum: 25 Points)

Project funds under this sub-priority area are to be used for the purpose of transferring expertise directly, or by a contract with a third party, to other OCS funded CDC grantees. Application describes how the success or failure of collaboration with these grantees will be documented. (0-10 points)

Application demonstrates an ability to disseminate results on the kinds of programmatic and administrative expertise transfer efforts in which it participated and successful strategies that it may have developed to share expertise with grantees during the grant period. (0—5 points)

Application states whether the results of the project will be included in a handbook, a progress paper, an evaluation report, a general manual, or seminars/workshops, and why the particular methodology chosen would be most effective. (0-5 points)

Application states it will undertake projects of national significance, if sufficient funding is available, that will assist CDCs in improving their administration and management capacity as a whole. (0-5 points)

Evaluation Criterion III: Approach (Maximum: 20 Points)

a. The application describes the project as it relates to provision of administration and management technical expertise to individual CDCs funded through CED. (0-5 points)

b. The application describes the CDCs to be served and documents an understanding of their needs and effective responses to those needs. (0-5 points)

c. The work plan is results-oriented and addresses the following: specific activities to be undertaken; outcomes to be achieved; performance targets that the project is committed to achieving, including a discussion of how the project will verify the achievement of these targets; critical milestones which must be achieved if results are to be gained. (0-10 points)

Evaluation Criterion IV: Objectives and Need for Assistance (Maximum: 15 Points)

a. The application effectively describes the administration and management expertise needed by CDCs funded by CED to be provided under this cooperative agreement. (0-10 points)

b. The application proposes national initiatives that will benefit the community development field. (0-5 points)

Evaluation Criterion V: Evaluation (Maximum: 10 Points)

a. The application includes a self-evaluation component. The evaluation data collection and analysis procedures are specifically oriented to assess the degree to which the stated goals and objectives are achieved. (0-5 points)

b. The proposed methodology includes qualitative and quantitative measures that reflect the scheduling and task delineation. (0-5 points)

2. Review and Selection Process

Initial OCS Screening

Each application submitted to OCS will be screened to determine whether it was received by the closing date and time.

Applications received by the closing date and time will be screened for completeness and conformity with the following requirements. Only complete applications that meet the requirements listed below will be reviewed and evaluated competitively. Other applications will be returned to the applicants with a notation that they were unacceptable and will not be reviewed.

All applications must comply with the following requirements except as noted:

(a) The application must contain a signed Standard Form 424 Application for Federal Assistance, a Standard Form 424-A Budget Information and signed Standard Form 424B Assurance—Non-Construction Programs completed according to instructions provided in this Program Announcement. The forms SF-424 and the SF-424B must be signed by an official of the organization applying for the grant who has authority to obligate the organization legally. The applicant's legal name as required on the SF-424 (Item 5) must match that listed as corresponding to the Employer Identification Number (Item 6);

(b) The application must include a project narrative that meets requirements set for in this announcement.

(c) The application must contain documentation of the applicant's tax-exempt and CDC statuses as indicated in the “Additional Information on Eligibility” section of this announcement.

OCS Evaluation of Applications

Applications that pass the initial OCS screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

The OCS Director and the program staff use the reviewer scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with OCS funds granted in the last five (5) years; comments of reviewers and government officials; staff evaluation and input; amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowance on previous OCS or other Federal agency grants.

VI. Award Administration Information

1. Award Notices

The successful applicants will be notified through issuance of a Financial Assistance Award document which sets forth the amount of funds granted, the terms and conditions of the grant, the effective date of the grant, the budget and project periods for which support is granted and the non-Federal share to be provided. The Financial Assistance Award will be signed and issued by an authorized Grants Officer and transmitted via postal mail.

2. Administrative and National Policy Requirements

45 CFR Part 74.

3. Reporting Requirements

Programmatic Reports: Semi-annually with a final report due 90 days after project end date.

Financial Reports: Semi-annually with a final report due 90 days after project end date.

Special Reporting Requirements: None.

VII. Agency Contacts

Program Office Contact

Debbie Brown, Office of Community Services, 370 L'Enfant Promenade, SW., Aerospace Building—5th Floor West, Washington, DC 20447, E-mail: dbrown@acf.hhs.gov, Telephone: (202) 401-3446.

Grants Management Office Contact

Barbara Ziegler Johnson, Office of Grants Management, Division of Discretionary Grants, 370 L'Enfant Promenade, SW., Aerospace Building—4th Floor West, Washington, DC 20447-0002, E-mail: bziegler-johns@acf.hhs.gov, Telephone: (202) 401-2344.

VIII. Other Information

Additional Information about this program and its purpose can be located on the following website: http://www.acf.hhs.gov/programs/ocs.

Dated: April 26, 2004.
Clarence H. Carter,
Director, Office of Community Services.

[FR Doc. 04-9818 Filed 4-29-04; 8:45 am]

BILLING CODE 4184-01-P